DEPARTMENT OF LABOR

Mine Safety and Health Administration

Affirmative Decisions on Petitions for Modification Granted in Whole or in Part

AGENCY: Mine Safety and Health Administration (MSHA), Labor.

ACTION: Notice.

SUMMARY: Section 101(c) of the Federal Mine Safety and Health Act of 1977 and 30 CFR Part 44 govern the application, processing, and disposition of petitions for modification. This Federal Register Notice (FR Notice) notifies the public that it has investigated and issued a final decision on certain mine operator petitions to modify a safety standard.

ADDRESSES: Copies of the final decisions are posted on MSHA's Web Site at http://www.msha.gov/indexes/petition.htm. The public may inspect the petitions and final decisions during normal business hours in MSHA's Office of Standards, Regulations and Variances, 1100 Wilson Boulevard, Room 2349, Arlington, Virginia 22209. All visitors must first stop at the receptionist desk on the 21st Floor to sign-in.

FOR FURTHER INFORMATION CONTACT: Roslyn B. Fontaine, Acting Deputy Director, Office of Standards, Regulations and Variances at 202-693-9475 (Voice), fontaine.roslyn@dol.gov (E-mail), or 202-693-9441 (Telefax), or Barbara Barron at 202-693-9447 (Voice), barron.barbara@dol.gov (E-mail), or 202-693-9441 (Telefax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) that the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2009-062-C.

FR Notice: 75 FR 3253 (January 20, 2010).

Petitioner: American Energy Corporation, 43521 Mayhugh Hill Road, Beallsville, Ohio 43716.

Mine: Century Mine, MHSA I.D. No. 33-01070, located in Monroe County, Ohio.

Regulation Affected: 30 CFR 75.503 (Permissible electric face equipment; maintenance) and 30 CFR 18.35 (Portable trailing cables and cords).

• Docket Number: M-2010-003-C.

FR Notice: 75 FR 12799 (March 17, 2010).

Petitioner: Brooks Run Mining Company, LLC, 208 Business Street, Beckley, West Virginia 25801.

Mine: Wyoming No. 2 Mine, MSHA I.D. No. 46-06263, located in Wyoming County, West Virginia.

Regulation Affected: 30 CFR 75.1101-1(b) (Deluge-type water spray systems).

• Docket Number: M-2010-006-C.

FR Notice: 75 FR 12794 (March 17, 2010).

Petitioner: Armstrong Coal Company, Inc., 407 Brown Road, Madisonville, Kentucky 42341.

Mine: Parkway Mine, MSHA I.D. No. 15-19358, located in Muhlenberg County, Kentucky.

Regulation Affected: 30 CFR 75.1101-1(b) (Deluge-type water spray systems).

• Docket Number: M-2010-011-C.

FR Notice: 75 FR 16187 (March 31, 2010).

Petitioner: Alex Energy, Inc., P.O. Box 190, Leivasy, West Virginia 26676.

Mine: Jerry Fork Eagle Mine, MSHA I.D. No. 46-08787, located in Nicholas County, West Virginia.

Regulation Affected: 30 CFR 75.1101-1(b) (Deluge-type water spray systems).

• Docket Number: M-2010-012-C.

FR Notice: 75 FR 16187 (March 31, 2010).

Petitioner: White Buck Coal Company, P.O. Box 180, Leivasy, West Virginia 26676.

Mine: Grassy Creek No. 1 Mine, MSHA I.D. No. 46-08365 and Hominy Creek Mine, MSHA I.D. No. 46-09266 located in Nicholas County, West Virginia; and Pocahontas Mine, MSHA I.D. No. 46-09154, located in Greenbrier County, West Virginia.

Regulation Affected: 30 CFR 75.1101-1(b) (Deluge-type water spray systems).

• Docket Number: M-2010-017-C.

FR Notice: 75 FR 22847 (April 30, 2010).

Petitioner: Brooks Run Mining Company, LLC, 208 Business Street, Beckley, West Virginia 25801.

Mine: Horse Creek No. 1 Mine, MSHA I.D. No. 46-09348, located in McDowell County, West Virginia.

Regulation Affected: 30 CFR 75.1101-1(b) (Deluge-type water spray systems).

• Docket Number: M-2009-004-M.

FR Notice: 74 FR 34371 (July 15, 2009).

Petitioner: Arch Materials, LLC, 4438 State route 276, Batavia, Ohio 45103.

Mine: Batavia Mine, MSHA I.D. No. 33-04578, Clermont County, Ohio.

Regulation Affected: 30 CFR 49.2(c) (Availability of mine rescue teams).

Dated: September 14, 2010.
Patricia W. Silvey,
Director, Office of Standards, Regulations and Variances.

[FR Doc. 2010-23323 Filed 9-17-10; 8:45 am]

BILLING CODE 4510-43-P